DEPARTMENT OF ENERGY

Federal Energy Regulatory Commission

[Project No. 12646-001—Oklahoma Pine Creek Lake Dam Hydroelectric Project]

City of Broken Bow, OK; Notice of Proposed Restricted Service List for a Programmatic Agreement for Managing Properties Included in or Eligible for Inclusion in the National Register of Historic Places

November 17, 2008.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR section 385.2010.

Commission staff is consulting with the Oklahoma State Historic Preservation Officer (Oklahoma SHPO) and the Advisory Council on Historic Preservation (Council) pursuant to the Council's regulations, 36 CFR part 800, implementing section 106 of the National Historic Preservation Act, as amended, (16 U.S.C. 470 f), to prepare and execute a programmatic agreement (PA) for managing properties included in, or eligible for inclusion in, the National Register of Historic Places at the Pine Creek Lake Dam Hydroelectric Project No. 12646 (Pine Creek Project).

The PA, when executed by the Commission and the Oklahoma SHPO, would satisfy the Commission's section 106 responsibilities for all individual undertakings carried out in accordance with the license until the license expires or is terminated (36 CFR 800.13[e]). The Commission's responsibilities pursuant to section 106 for the Pine Creek Project would be fulfilled through the PA, which Commission staff proposes to draft in consultation with the parties listed below. The executed PA would be incorporated into any order issuing a license for the project.

The City of Broken Bow, Oklahoma, as the license applicant for the Pine Creek Project, is invited to participate in consultations to develop the PA and to sign as a concurring party to the PA.

For purposes of commenting on the PA, we propose to restrict the service list for the aforementioned project as follows:

Don Klima or Representative, Advisory Council on Historic Preservation, The Old Post Office Building, Suite 803, 1100 Pennsylvania Avenue, NW., Washington, DC 20004

Michael Graves, Hall Estil Attorneys at Law, 320 South Boston Ave., Suite 400, Tulsa, OK 74103

Olen Hill or Representative, City Manager, City of Broken Bow, 210 North Broadway, Broken Bow, OK 74728

Melvena Heisch or Representative, Deputy SHPO, Oklahoma Historical Society, 2401 N. Laird Avenue, Oklahoma City, OK 73105

Robert L. Brooks or Representative, State Archaeologist, Oklahoma Archeological Survey, 111 E. Chesapeake St., Norman, OK 73019-5111

Gregory E. Pyle or Representative, Chief, Choctaw Nation of Oklahoma, P.O. Drawer 1210, Durant, OK 74702-1210

LaRue Martin Parker or Representative, Chairperson, Caddo Nation of Oklahoma, PO Box 487, Binger, OK 73009

Scott Henderson, US Army Corps of Engineers, Tulsa District, 1645 S. 101st East Ave., Tulsa, OK 74128

Any person on the official service list for the above-captioned proceeding may request inclusion on the restricted service list, or may request that a restricted service list not be established, by filing a motion to that effect within 15 days of this notice date. In any such request for inclusion, the requesting entity should identify the reason(s) why there is an interest to be included. Also, please identify any concerns about historic properties, including Traditional Cultural Properties. If historic properties are identified within the motion, a separate page, labeled NON-PUBLIC Information, should be used and attached to the request.

An original and 8 copies of any such motion must be filed with Kimberly D. Bose, Secretary of the Commission, 888 First Street, NE., Washington, DC 20426. The motion also must be served on each person whose name appears on the official service list. Please put the project name “Pine Creek Lake Dam Hydroelectric Project” and number “P-12646-001” on the front page of any motion. Motions may be filed electronically via the Internet in lieu of paper. The Commission strongly encourages electronic filings. See 18 CFR 385.2001(a)(1)(iii) and the instructions on the Commission's Web site (http://www.ferc.gov) under the “e-Filing” link.

If no such motions are filed, the restricted service list will be effective at the end of the 15 day period. Otherwise, a further notice will be issued ruling on any motion or motions filed within the 15 day period.

Kimberly D. Bose,
Secretary.

[FR Doc. E8-27687 Filed 11-20-08; 8:45 am]

BILLING CODE 6717-01-P